DEPARTMENT OF LABOR

Employment and Training Administration

[TA-W-58,158]

Falcon Plastics A/K/A Grand Venture, Washington, PA; Notice of Negative Determination Regarding Application for Reconsideration

By application postmarked January 6, 2006, a company official requested administrative reconsideration of the Department's negative determination regarding eligibility to apply for Trade Adjustment Assistance (TAA), applicable to workers and former workers of the subject firm. The denial notice was signed on December 30, 2005, and published in the Federal Register on January 17, 2006 (71 FR 2568).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Falcon Plastics, Washington, Pennsylvania engaged in production of blow molded plastics was denied because the “contributed importantly” group eligibility requirement of section 222 of the Trade Act of 1974, as amended, was not met, nor was there a shift in production from that firm to a foreign country. The “contributed importantly” test is generally demonstrated through a survey of the workers' firm's customers. The survey revealed no imports of blow molded plastics during the relevant period. The subject firm did not import blow molded plastics nor did it shift production to a foreign country during the relevant period.

The petitioner states that the affected workers lost their jobs as a result of the U.S. manufacturers shifting production of blow molded plastics to China and Mexico. The petitioner stated that the sales and production at the subject firm has been negatively impacted by increasing presence of foreign imports on the market.

Upon further review of the previous investigation and further contact with the company official, the Department conducted a full investigation to determine whether imports of blow molded plastics indeed impacted production at the subject firm and consequently caused workers separations.

The Department conducted a new survey of the customers requesting information on imports of “like or directly competitive products” to those purchased from Falcon Plastics, a/k/a Grand Venture in 2002, 2003 and January through September of 2005. The survey revealed that none of the respondents reported increasing its imports of “like or directly competitive products” to blow molded plastics purchased from the subject, while decreasing its purchases from the subject firm during the relevant time period.

Moreover, the subject firm does not import blow molded plastics and did not shift production of blow molded plastics abroad.

Conclusion

After review of the application and investigative findings, I conclude that there has been no error or misinterpretation of the law or of the facts which would justify reconsideration of the Department of Labor's prior decision. Accordingly, the application is denied.

Signed at Washington, DC, this 16th day of February, 2006.
Elliott S. Kushner,
Certifying Officer, Division of Trade Adjustment Assistance.

[FR Doc. E6-3063 Filed 3-2-06; 8:45 am]

BILLING CODE 4510-30-P